Title 3—

The President

Proclamation 10204 of May 6, 2021

Military Spouse Appreciation Day, 2021

By the President of the United States of America

A Proclamation

As the members of our Armed Forces safeguard our Nation at home and around the world, they depend on the people they love for strength, comfort, joy, and stability. Military spouses may not always wear a uniform, but they serve and sacrifice alongside their service members and keep our military strong. On Military Spouse Appreciation Day, we recognize and thank the military spouses who serve our Nation and are critical to our national security.

Military families are proud of the lives they build. Spouses understand that loving a service member means facing the challenges that can accompany their service: from leaving friends behind to changing jobs again; making parenting decisions alone to losing sleep at night; deployments to homecomings to more deployments. Those challenges have been magnified by the COVID-19 pandemic, which has led to lost income, fewer childcare options, and extended deployments. Still, military spouses have done what they do best: adapt, persevere, and keep going.

When someone you love is hurting, you hurt with them. When your spouse is at home, trying to make ends meet, or is torn between taking care of your children and keeping a job, your heart breaks too. Service members cannot focus on their mission if their families do not have what they need to thrive at home, and we cannot expect to retain even the most dedicated service members if they are forced to choose between their love of country and the hopes and dreams they have for their families. That is why supporting military spouses is critical to keeping our Nation safe.

On Military Spouse Appreciation Day, we recognize the importance of empowering spouses and ensuring they have the necessary tools and resources to thrive in all facets of their lives, including in the community, in the workforce, and at home.

My Administration is dedicated to supporting our Nation's military spouses. Through the First Lady's work with Joining Forces, the White House has committed to supporting military and veteran families, caregivers, and survivors through economic and entrepreneurship opportunities, support for military child education, and health and wellbeing resources. Launched in 2011 as part of Joining Forces, the Department of Defense's Military Spouse Employment Partnership now includes more than 500 companies, nonprofit organizations, and Federal agencies that are committed to recruiting, hiring, promoting, and retaining military spouses. Since its inception, the Partnership has supported more than 180,000 military spouses. Joining Forces will continue to convene and collaborate with Federal agency partners, nonprofit organizations, corporate stakeholders, and service providers to develop comprehensive, meaningful, and long-term solutions to address the holistic well-being of military and veteran families, caregivers, and survivors. And, Joining Forces calls upon on all Americans to support and harness the special skills, strengths, and experiences of military spouses.

Today, we pause to salute the women and men who do so much to support our troops, invest in our communities, and sacrifice for our country. Their strength and resilience are essential to the recruitment, retention, and readiness of our fighting forces and, indeed, to the strength of our Nation.

NOW, THEREFORE, I, JOSEPH R. BIDEN JR., President of the United States of America, by virtue of the authority vested in me by the Constitution and the laws of the United States, do hereby proclaim May 7, 2021, as Military Spouse Appreciation Day. I call upon the people of the United States to honor military spouses with appropriate ceremonies and activities.

IN WITNESS WHEREOF, I have hereunto set my hand this sixth day of May, in the year of our Lord two thousand twenty-one, and of the Independence of the United States of America the two hundred and forty-fifth.

[FR Doc. 2021-10038

Filed 5-10-21; 8:45 am]

Billing code 3295-F1-P